Title 3—

The President

Memorandum of January 17, 2023

Delegation of Authority Under Section 6501(b)(2) of the National Defense Authorization Act for Fiscal Year 2022

Memorandum for the Administrator of the United States Agency for International Development

By the authority vested in me as President by the Constitution and the laws of the United States of America, including section 301 of title 3, United States Code, I hereby delegate to the Administrator of the United States Agency for International Development the authority vested in the President by section 6501(b)(2) of the National Defense Authorization Act for Fiscal Year 2022 (Public Law 117-81) (22 U.S.C. 276c-5(b)) to designate an employee of the relevant Federal department or agency with fiduciary responsibility for United States contributions to the Coalition for Epidemic Preparedness Innovations (CEPI) to serve on the CEPI Investors Council and, if nominated, on the CEPI Board of Directors, as a representative of the United States. The delegation in this memorandum shall apply to any provision of any future public law that is the same or substantially the same as the provision referenced in this memorandum.

You are authorized and directed to publish this memorandum in the Federal Register.

THE WHITE HOUSE,

Washington, January 17, 2023

[FR Doc. 2023-01284

Filed 1-19-23; 11:15 am]

Billing code 6116-01-P